FEDERAL COMMUNICATIONS COMMISSION

[OIA Docket No. 24-30; FR ID 322484]

Informal Working Group 1 (IWG-1), Informal Working Group 2 (IWG-2), Informal Working Group 3 (IWG-3), and Informal Working Group 4 (IWG-4) of the 2027 World Radiocommunication Conference Advisory Committee (WRC-27 Advisory Committee) Schedule Their Meetings

AGENCY: Federal Communications Commission.

ACTION: Notice.

SUMMARY: This notice advises interested persons that Informal Working Group 1 (IWG-1), Informal Working Group 2 (IWG-2,) Informal Working Group 3 (IWG-3,) and Informal Working Group 4 (IWG-4) of the 2027 World Radiocommunication Conference Advisory Committee (WRC-27 Advisory Committee) have scheduled meetings as set forth below. The meetings are open to the public.

DATES:

21 January 2026 IWG-1: 2:00 p.m. ET-3:00 p.m. ET

21 January 2026 IWG-2: 3:00 p.m. ET-4:00 p.m. ET

22 January 2026 IWG-3: 12:30 p.m. ET-2:00 p.m. ET

22 January 2026 IWG-4: 11:00 a.m. ET-12:30 p.m. ET

28 January 2026 IWG-1: 2:00 p.m. ET-3:00 p.m. ET

28 January 2026 IWG-2: 3:00 p.m. ET-4:00 p.m. ET

29 January 2026 IWG-3: 12:30 p.m. ET-2:00 p.m. ET

29 January 2026 IWG-4: 11:00 a.m. ET-12:30 p.m. ET

4 February 2026 IWG-1: 2:00 p.m. ET-3:00 p.m. ET

4 February 2026 IWG-2: 3:00 p.m. ET-4:00 p.m. ET

5 February 2026 IWG-3: 2:00 p.m. ET-3:30 p.m. ET

5 February 2026 IWG-4: 11:00 a.m. ET-12:30 p.m. ET

11 February 2026 IWG-1: 2:00 p.m. ET-3:00 p.m. ET

11 February 2026 IWG-2: 3:00 p.m. ET-4:00 p.m. ET

12 February 2026 IWG-3: 2:00 p.m. ET-3:30 p.m. ET

12 February 2026 IWG-4: 11:00 a.m. ET-12:30 p.m. ET

ADDRESSES: The meetings will be held virtually.

FOR FURTHER INFORMATION CONTACT: Gregory Baker, Designated Federal Official, World Radiocommunication Conference Advisory Committee, FCC Office of International Affairs, Global Strategy and Negotiation Division, at Gregory.Baker@fcc.gov, (202) 919-0758 or WRC-27@fcc.gov.

SUPPLEMENTARY INFORMATION: The FCC established the Advisory Committee to provide advice, technical support and recommendations relating to the preparation of United States proposals and positions for the 2027 World Radiocommunication Conference (WRC-27).

In accordance with the Federal Advisory Committee Act, Public Law 92-463, as amended, this notice advises interested persons of the IWG-1, IWG-2, IWG-3 and IWG-4 of the WRC-27 Advisory Committee scheduled meetings. The Commission's WRC-27 website (www.fcc.gov/wrc-27) contains the latest information on all scheduled meetings, meeting agendas, and WRC-27 Advisory Committee matters.

Below is additional IWG meeting information:

WRC-27 Advisory Committee

Schedule of Meetings of Informal Working Groups 1, 2, 3 and 4

Informal Working Group 1: Maritime, Aeronautical and Radar Services

Chair—Kim Kolb, kim.1.kolb@boeing.com (703) 220-2438.

Vice Chair—Nicholas Shrout, njs@asri.aero (443) 951-0335.

FCC Representatives: Louis Bell, louis.bell@fcc.gov, telephone: (202) 418-1641; Allen Yang, allen.yang@fcc.gov, telephone: (202) 418-0738; Dante Ibarra, dante.ibarra@fcc.gov, telephone: (202) 418-0610; Gregory Baker, Gregory.Baker@fcc.gov, (202) 919-0758.

IWG-1—Meetings

Dates: January 21, 2026; January 28, 2026; February 4, 2026; February 11, 2026;

Time: 2:00 p.m. ET-3:00 p.m. ET.

https://teams.microsoft.com/l/meetup-join/19%3ameeting_NWU2YzE1YjctMjNhYy00ZTQ5LTkwMGYtMWFkMDJhNmIwYjIw%40thread.v2/0?context=%7b%22Tid%22%3a%2272970aed-3669-4ca8-b960-dd016bc72973%22%2c%22Oid%22%3a%222298fa1d-c4e2-4a0c-a002-427010804ceb%22%7d.

Meeting ID: 257 833 228 843 47.

Passcode: Sa6xB2Fu.

Dial in by phone +1 360-726-3256,,709535484# United States, Vancouver.

Phone conference ID: 709 535 484#.

Informal Working Group 2: Mobile and Fixed Services

Chair—Daudeline Meme, daudeline.meme@verizon.com, (202) 253-8362.

Vice Chair—Reza Arefi, rezaa@apple.com, (202) 235-7298.

FCC Representatives: Louis Bell, louis.bell@fcc.gov, telephone: (202) 418-1641; Dante Ibarra, dante.ibarra@fcc.gov, telephone: (202) 418-0610; Gregory Baker, Gregory.Baker@fcc.gov, (202) 919-0758.

IWG-2—Meetings

Dates: January 21, 2026; January 28, 2026; February 4, 2026; February 11, 2026.

Time: 3:00 p.m. ET-4:00 p.m. ET.

https://teams.microsoft.com/l/meetup-join/19%3ameeting_NWU2YzE1YjctMjNhYy00ZTQ5LTkwMGYtMWFkMDJhNmIwYjIw%40thread.v2/0?context=%7b%22Tid%22%3a%2272970aed-3669-4ca8-b960-dd016bc72973%22%2c%22Oid%22%3a%222298fa1d-c4e2-4a0c-a002-427010804ceb%22%7d.

Meeting ID: 257 833 228 843 47.

Passcode: Sa6xB2Fu.

Dial in by phone +1 360-726-3256,,709535484# United States, Vancouver.

Phone conference ID: 709 535 484#.

Informal Working Group 3: Fixed-Satellite Service and Regulatory Matters

Chair—Alex Epshteyn, epshteyn@amazon.com, (703) 963-6136.

Vice Chair—Ryan Henry, ryan.henry@ses.com, (202) 878-9360.

FCC Representatives: Clay DeCell, clay.decell@fcc.gov, telephone: (202) 418-0803; Kathyrn Medley, kathyrn.medley@fcc.gov, telephone: (202) 418-1211; Eric Grodsky, eric.grodsky@fcc.gov, telephone: (202) 418-0563; Dante Ibarra, dante.ibarra@fcc.gov, telephone: (202) 418-0610; Gregory Baker, Gregory.Baker@fcc.gov, (202) 919-0758.

IWG-3—Meetings

Dates: January 22, 2026; January 29, 2026.

Time: 12:30 p.m. ET-2:00 p.m. ET.

https://teams.microsoft.com/l/meetup-join/19%3ameeting_NWM0ZWQwODMtYzM4Zi00YjM2LWE3Y2ItZDdiNmUzZjNiZmM2%40thread.v2/0?context=%7b%22Tid%22%3a%2272970aed-3669-4ca8-b960-dd016bc72973%22%2c%22Oid%22%3a%222298fa1d-c4e2-4a0c-a002-427010804ceb%22%7d.

Meeting ID: 233 889 451 515 46.

Passcode: 7Y2qN2gZ.

Dial in by phone +1 360-726-3256,,716992316# United States, Vancouver.

Phone conference ID: 716 992 316#.

Dates: February 5, 2026; February 12, 2026;

Time: 2:00 p.m. ET-3:30 p.m. ET.

https://teams.microsoft.com/l/meetup-join/19%3ameeting_M2ZiMWU3ODctMmRjYi00MDE4LTk4OTUtN2M3YjA0NDU4YjJl%40thread.v2/0?context=%7b%22Tid%22%3a%2272970aed-3669-4ca8-b960-dd016bc72973%22%2c%22Oid%22%3a%222298fa1d-c4e2-4a0c-a002-427010804ceb%22%7d.

Meeting ID: 242 867 922 809 52.

Passcode: na9xQ7vQ.

Dial in by phone +1 360-726-3256,,130910836# United States, Vancouver.

Phone conference ID: 130 910 836#.

Informal Working Group 4: Mobile Satellite and Space Science Services

Chair—Damon Ladson dladson@hwglaw.com, (202) 730-1315.

Vice Chair—George John, george.john@hoganlovells.com, (202) 673-6989.

FCC Representatives: Dante Ibarra, dante.ibarra@fcc.gov, telephone: (202) 418-0610; Clay DeCell, clay.decell@fcc.gov, telephone: (202) 418-0803; Gregory Baker, Gregory.Baker@fcc.gov, (202) 919-0758.

IWG-4—Meetings

Dates: January 22, 2026; January 29, 2026.

Time: 11:00 a.m. ET-1:00 p.m. ET.

https://teams.microsoft.com/l/meetup-join/19%3ameeting_NWM0ZWQwODMtYzM4Zi00YjM2LWE3Y2ItZDdiNmUzZjNiZmM2%40thread.v2/0?context=%7b%22Tid%22%3a%2272970aed-3669-4ca8-b960-dd016bc72973%22%2c%22Oid%22%3a%222298fa1d-c4e2-4a0c-a002-427010804ceb%22%7d.

Meeting ID: 233 889 451 515 46.

Passcode: 7Y2qN2gZ.

Dial in by phone +1 360-726-3256,,716992316# United States, Vancouver.

Phone conference ID: 716 992 316#.

Dates: February 5, 2026; February 12, 2026.

Time: 11:00 a.m. ET-12:30 p.m. ET.

https://teams.microsoft.com/l/meetup-join/19%3ameeting_NjBkNWVkNWYtYTE4OS00YjEyLThjNGQtZTMxOWM2NjVhZmU5%40thread.v2/0?context=%7b%22Tid%22%3a%2272970aed-3669-4ca8-b960-dd016bc72973%22%2c%22Oid%22%3a%222298fa1d-c4e2-4a0c-a002-427010804ceb%22%7d.

Meeting ID: 262 614 683 845 20.

Passcode: aL24dm2C.

Dial in by phone +1 360-726-3256,,288979953# United States, Vancouver.

Phone conference ID: 288 979 953#.

Federal Communications Commission.
Sarah Van Valzah,
Assistant Chief, Office of International Affairs.

[FR Doc. 2025-23558 Filed 12-19-25; 8:45 am]

BILLING CODE 6712-01-P